FEDERAL COMMUNICATIONS COMMISSION

[WC Docket Nos. 04-36 and 05-196; DA 05-2277]

E911 Requirements for IP-Enabled Services; Petitions for Reconsideration and/or Clarification and/or Waiver Filed

AGENCY: Federal Communications Commission.

ACTION: Notice.

SUMMARY: This document seeks comment on petitions for reconsideration and/or clarification and/or waiver filed by CompTel, T-Mobile USA, Inc., and the National Emergency Number Association & Voice on the Net (VON) Coalition, seeking reconsideration and/or clarification and/or waiver of the Commission's E911 requirements for IP-enabled service providers adopted in the First Report and Order in WC Docket No. 04-36.

DATES: Oppositions to these petitions must be filed by September 15, 2005. Replies to an opposition must be filed within 10 days after the time for filing oppositions has expired.

ADDRESSES: You may submit oppositions or replies, identified by WC Docket Nos. 04-36 and 05-196, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432. For detailed instructions for submitting comments and additional information on the rulemaking process, see the SUPPLEMENTARY INFORMATION section of this document.

FOR FURTHER INFORMATION CONTACT: Christi Shewman, Senior Attorney, Competition Policy Division, Wireline Competition Bureau, at (202) 418-1686.

SUPPLEMENTARY INFORMATION: This is a summary of the Commission's Public Notice, DA 05-2277, released August 12, 2005. The full text of the petitions and copies of any subsequently filed documents in this matter will be available for public inspection and copying during regular business hours at the FCC Reference Information Center, Portals II, 445 12th Street, SW., Room CY-A257, Washington, DC 20554, (202) 418-0270. This document may be purchased from the Commission's duplicating contractor, Best Copy and Printing, Inc., Portals II, 445 12th Street, SW., Room CY-B402, Washington, DC 20554. Customers may contact BCPI, Inc. at their Web site: http://www.bcpiweb.com or by calling 1-800-378-3160.

Background

On July 29, 2005, petitions for reconsideration and/or clarification and/or waiver were filed by CompTel, T-Mobile USA, Inc., and the National Emergency Number Association & Voice on the Net (VON) Coalition, seeking reconsideration and/or clarification and/or waiver of the Commission's E911 requirements for IP-enabled service providers adopted in the First Report and Order in WC Docket No. 04-36. See CompTel, Petition for Reconsideration/Clarification and/or Waiver, WC Docket Nos. 04-36 and 05-196, filed July 29, 2005; T-Mobile USA, Inc., Petition for Clarification, WC Docket Nos. 04-36 and 05-196, filed July 29, 2005; National Emergency Number Association & Voice on the Net (VON) Coalition, Joint Petition for Clarification, WC Docket Nos. 04-36 and 05-196, filed July 29, 2005.

Electronic Access and Filing

Pursuant to § 1.429 of the Commission's rules, 47 CFR 1.429, interested parties may file Oppositions to these petitions on or before September 15, 2005. Replies to an opposition must be filed within 10 days after the time for filing oppositions has expired. When filing, please reference WC Docket Nos. 04-36 and 05-196. Comments may be filed using the Commission's Electronic Comment Filing System (ECFS) or by filing paper copies. See Electronic Filing of Documents in Rulemaking Proceedings, 63 FR 24121, May 1, 1998. Comments filed through the ECFS can be sent as an electronic file via the Internet to http://www.fcc.gov/e-file/ecfs.html. In completing the transmittal screen, commenters should include their full name, U.S. Postal Service mailing address, and the applicable docket or rulemaking number. Parties may also submit an electronic comment by Internet e-mail. To get filing instructions for e-mail comments, commenters should send e-mail to ecfs@fcc.gov, and should include the following words in the body of the message, “get form <your e-mail address>.” A sample form and directions will be sent in reply.

Parties who choose to file by paper must send an original and eleven (11) copies of each filing. All filings must be addressed to the Commission's Secretary, Marlene H. Dortch, Office of the Secretary, Federal Communications Commission, 445 12th Street, SW., Room TW-B204, Washington, DC 20554.

Filings can be sent by hand or messenger delivery, by electronic media, by commercial overnight courier, or by first-class or overnight U.S. Postal Service mail (although we continue to experience delays in receiving U.S. Postal Service mail). The Commission's contractor, Natek, Inc., will receive hand-delivered or messenger-delivered paper filings or electronic media for the Commission's Secretary at 236 Massachusetts Avenue, NE., Suite 110, Washington, DC 20002. The filing hours at this location are 8 a.m. to 7 p.m. All hand deliveries must be held together with rubber bands or fasteners. Any envelopes must be disposed of before entering the building. Commercial and electronic media sent by overnight mail (other than U.S. Postal Service Express Mail and Priority Mail) must be sent to 9300 East Hampton Drive, Capitol Heights, MD 20743. U.S. Postal Service first-class mail, Express Mail, and Priority Mail should be addressed to 445 12th Street, SW., Washington, DC 20554.

This proceeding shall be treated as a “permit but disclose” proceeding in accordance with the Commission's ex parte rules, 47 CFR 1.1200. Persons making oral ex parte presentations are reminded that memoranda summarizing the presentations must contain summaries of the substance of the presentations and not merely a listing of the subjects discussed. More than a one or two sentence description of the views and arguments presented is generally required. See 47 CFR 1.1206(b). Other rules pertaining to oral and written ex parte presentations in permit-but-disclose proceedings are set forth in § 1.1206(b) of the Commission's rules, 47 CFR 1.1206(b).

To request materials in accessible formats for people with disabilities (Braille, large print, electronic files, audio format) send an e-mail to fcc504@fcc.gov or call the Consumer & Governmental Affairs Bureau at (202) 418-0530 (voice) or (202) 418-0432 (TTY).

Federal Communications Commission.
Donald K. Stockdale, Jr.,
Acting Deputy Chief, Wireline Competition Bureau.

[FR Doc. 05-17227 Filed 8-30-05; 8:45 am]

BILLING CODE 6712-01-P